DEPARTMENT OF ENERGY

Federal Energy Regulatory Commission

[Docket No. RP97-249-001]

Viking Gas Transmission Company; Notice of Negotiated Rate

November 8, 2000.

Take notice that on October 31, 2000, Viking Gas Transmission Company (Viking) tendered for filing as part of its FERC Gas Tariff, First Revised Volume No. 1, the following tariff sheets to become effective November 1, 2000:

Third Revised Sheet No. 7

Third Revised Sheet No. 8

Third Revised Sheet No. 9

Viking states that these tariff sheets reflect the implementation of a new negotiated rate contact between Viking and Wisconsin Public Service. Viking requests an effective date of November 1, 2000 and accordingly requests waiver of the Commission's notice requirements.

Viking states that copies of this filing have been served on Viking's jurisdictional customers and to affected state regulatory commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

Linwood A. Watson, Jr.,
Acting Secretary.

[FR Doc. 00-29194 Filed 11-14-00; 8:45 am]

BILLING CODE 6717-01-M